DEPARTMENT OF HEALTH AND HUMAN SERVICES

Agency for Healthcare Research and Quality

Meeting of the AHRQ National Advisory Council for Healthcare Research and Quality Subcommittee on Patient Safety and Medical Liability Reform Demonstrations

AGENCY: Agency for Healthcare Research and Quality (AHRQ), HHS.

ACTION: Notice of public meeting.

SUMMARY: This notice announces a meeting of the National Advisory Council for Healthcare Research and Quality Subcommittee on Patient Safety and Medical Liability Reform Demonstrations.

DATES: The meeting will be held in October; specific information will be available on the AHRQ Web site at http://www.AHRQ.gov.

ADDRESSES: To be determined; in Washington, DC Metro area; specific information will be available at http://www.AHRQ.gov.

FOR FURTHER INFORMATION CONTACT: Christine Williams, Director for Strategic Partnerships, Agency for Healthcare Research and Quality, 540 Gaither Road, Rockville, Maryland 20850, (301) 427-1850.

For press-related information, please contact: Karen Migdail at (301) 427-1855.

If sign language interpretation or other reasonable accommodation for a disability is needed, please contact: Mr. Michael Chew, Director, Office of Equal Employment Opportunity Program, Program Support Center, (301) 443-1144 (no later than October 15, 2009).

SUPPLEMENTARY INFORMATION:

I. Purpose

The National Advisory Council for Healthcare Research and Quality was established in accordance with Section 921 (now Section 931) of the Public Health Service Act, 42 U.S.C. 299c. In accordance with its statutory mandate, the Council is to advise the Secretary of the Department of Health and Human Services and the Director, Agency for Healthcare Research and Quality (AHRQ), on matters related to actions of AHRQ to enhance the quality, and improve the outcomes, of health care services; improve access to such services through scientific research; and promote improvements in clinical practice and in the organization, financing, and delivery of health care services.

The Council is composed of members of the public, appointed by the Secretary, and Federal ex-officio members. AHRQ's National Advisory Council on Healthcare Research and Quality (NAC) will establish a Subcommittee on Patient Safety and Medical Liability Reform Demonstrations.

The Subcommittee will be created to provide advice to the NAC for consideration and transmission to AHRQ as AHRQ undertakes the development of a new demonstration initiative that will help States and health care systems to test models that put patient safety first and work to reduce preventable injuries, foster better communication between doctors and their patients, ensure that patients are compensated in a fair and timely manner for medical injuries, while reducing the incidence of frivolous lawsuits; and reduce liability premiums.

As directed by President Obama, the Secretary of the Department of Health and Human Services (HHS) will launch a competitive three-pronged initiative that will include support for demonstration grants to States and health systems, planning grants to States and health systems, and a rapid and comprehensive review of current efforts, targeting patient safety and medical liability. Prior to finalizing the Funding Opportunity Announcement for this new initiative, the chairman of AHRQ's National Advisory Council will convene a subcommittee with diverse representation from expert and stakeholder groups to provide advice for this initiative. The date, time, location and agenda for the subcommittee meeting, which will be open to the public, will be available on the AHRQ Web site no later than two weeks in advance of such meeting. Members of the public will have the opportunity to submit comments to the subcommittee in person or in writing, and can participate in the meeting in person or via Web casting. The subcommittee will not review individual grants nor participate in award decisions.

A roster of the Subcommittee members will be available at http://www.AHRQ.gov.

A more specific proposed agenda will be available before the meeting at http://www.AHRQ.gov.

The final agenda, including the time for public comment during the meeting, will be available on the AHRQ Web site at http://www.AHRQ.gov. Public comments may also be submitted in writing by e-mail, fax, mail, or hand delivery. E-mails are preferred. Please submit comments to: Medicalliabilitydemos@AHRQ.hhs.gov. A comment submitted by e-mail should indicate that it is in response to “Medical Liability Reform Demonstrations Subcommittee.” The deadline for written comments will be posted on the AHRQ Web site. Meeting minutes will be available within 21 business days after the meeting.

Dated: September 24, 2009.
Carolyn M. Clancy,
Director.

[FR Doc. E9-23594 Filed 10-1-09; 8:45 am]

BILLING CODE 4160-90-M